ENVIRONMENTAL PROTECTION AGENCY

[EPA-HQ-OAR-2015-0272; FRL-9946-23-OAR]

Protection of Stratospheric Ozone: Notice of Revocation and Voluntary Withdrawals of Programs From EPA's Section 608 Technician Certifying Program

AGENCY: Environmental Protection Agency (EPA).

ACTION: Notice of revocations and voluntary withdrawals.

SUMMARY: EPA is removing programs that were revoked and those that submitted voluntary withdrawals from its list of Section 608 Technician Certification Programs approved to provide the technician certification exam. EPA's list is available at: http://www.epa.gov/section608/section-608-technician-certification-programs.

DATES: On February 1, 2016, authorization to provide the technician certification exam and to issue certification cards was revoked for each program in the Table below: Revoked Technician Certification Programs. Technicians that were already certified by these programs will remain certified, in accordance with 40 CFR 82.161(a).

FOR FURTHER INFORMATION CONTACT: Robert Burchard, Stratospheric Protection Division, Office of Atmospheric Programs (6205T), Environmental Protection Agency, 1200 Pennsylvania Ave. NW., Washington, DC 20460; telephone number (202) 343-9126; fax number: (202) 343-2338; email address: burchard.robert@epa.gov.

SUPPLEMENTARY INFORMATION:

I. General Information

How can I get copies of this document and other related information?

Docket. EPA has established a docket for this action under Docket ID No. EPA-HQ-OAR-2015-0272. Publicly available docket materials are available either electronically through www.regulations.gov or in hard copy at the Air Docket, EPA/DC, WJC West Building, Room 3334, 1301 Constitution Avenue NW., Washington DC. This Docket Facility is open from 8:30 a.m. to 4:30 p.m., Monday through Friday, excluding legal holidays. The Docket telephone number is (202) 566-1742.

Electronic Access. You may access this Federal Register document electronically from the Government Printing Office under the “Federal Register” listings at the FDSys Web site (http://www.gpo.gov/fdsys/browse/collection.action?collectionCode=FR).

II. Revocations and Voluntary Withdrawals

In accordance with the standards for certifying programs established in appendix D of 40 CFR part 82, subpart F, technician certifying programs must submit an activity report to EPA on a biannual basis (such that EPA receives the report by every January 30 and June 30) that provides certain information about the certification tests administered. The programs in the Table below have repeatedly failed to submit activity reports.

The regulations at 40 CFR 82.161 establish criteria and procedures for such programs to become approved technician certification programs that can provide the certifications that are required for technicians under Section 608. As provided in 40 CFR 82.161(e), “[i]f at any time an approved program violates any of the above requirements,” which reference the standards in appendix D that are cited in 82.161(c), “the Administrator reserves the right to revoke approval in accordance with Section 82.169.” Today's notice announces the final revocation of the approval of the programs in the Table below.

These programs were sent certified letters explaining that EPA had not received required activity reports and listing which reports were missing. In the letters, the programs were offered the opportunity to come into compliance by submitting missing reports.¹ The Agency received no replies. In a Federal Register notice published December 2, 2015 (80 FR 75456), the programs in the table below were given thirty days from the date of publication of that notice to submit their missing reports. The notice announced that failure to submit these reports so that they were received by January 4, 2016 would result in an automatic suspension of the program's approval to offer the technician certification exam and of its approval to issue Section 608 technician certification cards. The notice also announced that automatic program revocation would occur on February 1, 2016 for each of those certifying organizations that were so notified of impending suspension and revocation and that failed to provide missing reports, unless the organization requested a hearing in accordance with the regulations published at 40 CFR 82.169 before that date. Since the Agency did not receive any reports from those certifying organizations by January 4, 2016, or requests for a hearing by February 1, 2016, the approval to certify technicians is revoked for all the programs listed in the following table:

¹ Some of these programs also received notice in these letters of impending suspensions and revocations, but as some of these letters were returned to us unopened, we chose to provide a second notice in the Federal Register. 80 FR 75456.

Table—Revoked Technician Certification Programs
No. | Technician certification program | Year of most recent activity report
1 | ACI Environmental Safety Training Institute | 2009.
2 | California Career Center | No record of a submitted report.
3 | Delaware County Community College | 2011.
4 | Delaware Skills Center Building Maintenance | 2013.
5 | Delaware Technical & Community College | 2009.
6 | Educational Services | 2012.
7 | HVAC/R Training, Inc | 2010.
8 | InSolution | No record of a submitted report.
9 | Niagara County Community College | 2010.
10 | Nugent Associates | 2011.
11 | San Diego City College | 2010.
12 | Southern Technical College | 2012.
13 | Unified Industries, Inc | No record of a submitted report.
14 | Vatterott College | 2011.

Accordingly, we have updated the list of approved Section 608 Technician Certification Programs mentioned above by removing these programs from the list.

Additionally, as discussed in the December 2, 2015 Notice, the following 608 Technician Certification Programs voluntarily withdrew their certification and have been removed from the Agency's list of approved Section 608 Technician Certification Programs: Air-Conditioning & Refrigeration Institute (ARI); CDTA, Inc; and Motorcoach Training Specialist. Three programs—NASA; Kellogg Community College; and WyoTech—had prior to the December 2, 2015 Notice also submitted requests for voluntary withdrawal but were inadvertently omitted from that Notice. Consistent with those requests, these programs have also been removed from the Agency's list of approved Section 608 Technician Certification Programs.

Technicians that were already certified by all of these programs remain certified, in accordance with 40 CFR 82.161(a). Requests for replacement cards should be sent to: spdcomments@epa.gov.

Drusilla Hufford, Director,
Stratospheric Protection Division.

[FR Doc. 2016-10987 Filed 5-9-16; 8:45 am]

BILLING CODE 6560-50-P